DEPARTMENT OF AGRICULTURE

Natural Resources Conservation Service

Mississippi Trustee Implementation Group Deepwater Horizon Oil Spill Draft Restoration Plan 4 and Environmental Assessment: Restoration of Wetlands, Coastal and Nearshore Habitats; Nutrient Reduction (Nonpoint Source); and Provide and Enhance Recreational Opportunities

AGENCY: Natural Resources Conservation Service (NRCS), U.S. Department of Agriculture (USDA).

ACTION: Notice of availability; request for public comments.

SUMMARY: In accordance with the Oil Pollution Act of 1990 (OPA), the National Environmental Policy Act of 1969 (NEPA), the Deepwater Horizon (DWH) Oil Spill Final Programmatic Damage Assessment Restoration Plan and Final Programmatic Environmental Impact Statement and Record of Decision, and the Consent Decree, the Federal and State natural resource trustee agencies for the Mississippi Trustee Implementation Group (MS TIG) have prepared the “Mississippi Trustee Implementation Group Draft Restoration Plan 4 and Environmental Assessment: Restoration of Wetlands, Coastal, and Nearshore Habitats; Nutrient Reduction (Nonpoint Source), and Provide and Enhance Recreational Opportunities” (Draft RP4 and EA). In the Draft RP4 and EA, MS TIG proposes projects to partially restore wetlands, coastal, and nearshore habitats; reduce nutrient pollution (nonpoint source); and provide and enhance recreational opportunities to compensate for lost recreational use in the Mississippi Restoration Area as a result of the DWH oil spill. The Draft RP4 and EA, a No Action alternative is also evaluated for each of the restoration types. The approximate cost to implement the MS TIG's proposed action (seven preferred alternatives) is $26.4 million. We invite public comments on the Draft RP4 and EA.

DATES: We will consider comments that we receive by October 2, 2023.

ADDRESSES: Obtaining Documents: You may download the Draft RP4 and EA from the following website: https://www.gulfspillrestoration.noaa.gov/restoration-areas/mississippi.

Alternatively, you may request a CD of the Draft RP4 and EA (see FOR FURTHER INFORMATION CONTACT).

Submitting Comments: You may submit comments by one of the following methods:

• Via the Web: http://www.gulfspillrestoration.noaa.gov/restoration-areas/mississippi; or

• Via U.S. Mail: U.S. Fish and Wildlife Service, 1875 Century Boulevard, Atlanta, GA 30345.

FOR FURTHER INFORMATION CONTACT: Nanciann Regaldo, Nanciann_regalado@fws.gov, 678-296-6805, or via the Federal Relay Service at 800-877-8339; Ronald Howard, Senior Advisor, USDA Gulf Coast Ecosystem Restoration Team, at ron.howard@usda.gov; and Dr. Tina Nations, the Natural Resource Damage Assessment (NRDA) and the National Fish and Wildlife Foundation Program Manager, MDEQ Office of Restoration, tnations@mdeq.ms.gov.

SUPPLEMENTARY INFORMATION:

Introduction

On April 20, 2010, the mobile offshore drilling unit Deepwater Horizon, which was being used to drill well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The DWH Federal and State natural resource trustees (DWH Trustees) conducted NRDA for the DWH oil spill under OPA (33 U.S.C. 2701-2720). Pursuant to OPA, Federal, and State agencies act as trustees on behalf of the public to assess natural resource injuries and losses and to determine the actions required to compensate the public for those injuries and losses. OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• USDA;

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the DWH Trustees against BP arising from the DWH oil spill: United States v. BPXP et al., Civ. No. 10-4536, centralized in MDL 2179, In re: Oil Spill by the Oil Rig “Deepwater Horizon” in the Gulf of Mexico, on April 20, 2010 (E.D. La.) (http://www.justice.gov/enrd/deepwater-horizon). Pursuant to the Consent Decree, restoration projects in the Mississippi Restoration Area are chosen and managed by MS TIG. MS TIG is composed of the following Trustees: State of Mississippi Department of Environmental Quality; DOI; NOAA; EPA; and USDA.

On February 7, 2022, MS TIG posted a public notice requesting natural resource restoration project ideas by March 7, 2022, for the Mississippi Restoration Area. The notice stated that MS TIG was seeking project ideas for the following restoration types:

(1) Wetlands, Coastal, and Nearshore Habitat;

(2) Nutrient Reduction; and

(3) Provide and Enhance Recreational Opportunities.

On October 11, 2022, MS TIG announced that it had initiated drafting of the RP4 and EA (https://www.gulfspillrestoration.noaa.gov/2022/10/notice-initiation-restoration-planning-mississippi) and that the plan may include proposed projects for some or all of the three restoration types.

Overview of the MS TIG Draft RP4 and EA

The Draft RP4 and EA provides the MS TIG's analysis of a reasonable range of restoration alternatives. The MS TIG's seven preferred alternatives are presented in the following table under the restoration type from which funds would be allocated in accordance with the DWH Consent Decree. The MS TIG also evaluated three non-preferred alternatives as part of the reasonable range, and a No Action alternative for each restoration type in the plan.

Restoration Type: Wetlands, Coastal and Nearshore Habitat

Coastwide Habitat Acquisition

Living Shoreline Bulkhead Alternative

Hancock County Marsh Living Shoreline Phase 6 Breakwater

Restoration Type: Nutrient Reduction (Nonpoint Source)

Back Bay—Davis Bayou Nutrient Reduction

Big Cedar Creek—Rocky Creek Nutrient Reduction

Restoration Type: Provide and Enhance Recreational Opportunities

Jourdan River Boardwalk

Shepard State Park Recreational Enhancements—1

Next Steps

MS TIG will post a pre-recorded public webinar to facilitate the public review and comment process no later than September 15, 2023. The pre-recorded webinar will be available on the Mississippi Department of Environmental Quality Office of Restoration website at https://www.mdeq.ms.gov/restoration/. The pre-recorded public webinar will be available for viewing at any time during the public comment period.

After the public comment period ends, the MS TIG will consider all comments received and address them in the Final RP4 and EA.

Public Availability of Comments

Before including your address, phone number, email address, or other personal identifying information in your comment, you should be aware that your entire comment—including your personal identifying information—may be made publicly available at any time. While you can ask us in your comment to withhold your personal identifying information from public review, we cannot guarantee that we will be able to do so.

Translation Opportunities

Vietnamese and Spanish translated materials including the Executive Summary and project fact sheets are posted in the “News” section of the MS TIG website: http://www.gulfspillrestoration.noaa.gov/restoration-areas/mississippi.

Administrative Record

The documents comprising the Administrative Record for the Draft RP4 and EA can be viewed electronically at https://www.doi.gov/deepwaterhorizon/adminrecord under the folder 6.5.6.2.4.

Authority

The authority for this action is OPA, its implementing NRDA regulations in 15 CFR part 990, and NEPA (42 U.S.C. 4321-4347) and its implementing regulations in 40 CFR 1500-1508.

Ronald Howard,
Senior Technical Advisor, Natural Resource Specialist, Natural Resources Conservation Service, and U.S. Department of Agriculture, Alternate to Principal Representative.

[FR Doc. 2023-18774 Filed 8-30-23; 8:45 am]

BILLING CODE 3410-16-P